DEPARTMENT OF TRANSPORTATION

Federal Aviation Administration

14 CFR Part 39

[Docket No. FAA-2006-26597; Directorate Identifier 2006-CE-86-AD; Amendment 39-14900; AD 2007-02-13]

RIN 2120-AA64

Airworthiness Directives; DORNIER LUFTFAHRT GmbH Model 228-212 Airplanes

AGENCY: Federal Aviation Administration (FAA), DOT.

ACTION: Final rule; request for comments.

SUMMARY: The FAA is adopting a new airworthiness directive (AD) for DORNIER LUFTFAHRT GmbH Model 228-212 airplanes. This AD requires you to inspect the landing gear carbon brake assembly. This AD results from mandatory continuing airworthiness information (MCAI) issued by the European Aviation Safety Agency (EASA), which is the airworthiness authority for the European Union. We are issuing this AD to inspect the landing gear carbon brake assembly to detect and replace loose bolts or self-locking nuts, which could result in the brake assembly detaching and malfunctioning, degrade brake performance and potentially cause loss of control of the aircraft during landing and roll-out.

DATES: This AD becomes effective on March 1, 2007.

As of March 1, 2007, the Director of the Federal Register approved the incorporation by reference of certain publications listed in the regulation.

We must receive any comments on this AD by February 26, 2007.

ADDRESSES: Use one of the following addresses to comment on this AD.

• DOT Docket Web site: Go to http://dms.dot.gov and follow the instructions for sending your comments electronically.

• Fax: (202) 493-2251.

• Mail: Docket Management Facility, U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: http://www.regulations.gov. Follow the instructions for submitting comments.

To get the service information identified in this AD, contact RVAG Aerospace Services GmbH, Dornier 228 Customer Support, PO Box 1253, D-82231Wessling, Federal Republic of Germany; telephone: 49 8153 302280.

To view the comments to this AD, go to http://dms.dot.gov. The docket number is FAA-2006-26597; Directorate Identifier 2006-CE-86-AD.

FOR FURTHER INFORMATION CONTACT: Karl Schletzbaum, Aerospace Engineer, FAA, Small Airplane Directorate, 901 Locust, Room 301, Kansas City, Missouri 64106; telephone: (816) 329-4146; fax: (816) 329-4090.

SUPPLEMENTARY INFORMATION:

Discussion

The European Aviation Safety Agency (EASA), which is the airworthiness authority for the European Union, recently notified the FAA that an unsafe condition may exist on certain DORNIER LUFTFAHRT GmbH Dornier Model 228-212 airplanes. The EASA reports that during a maintenance inspection, loose bolts and nuts were detected on the landing gear carbon brake assembly.

This condition, if not corrected, could result in the brake assembly detaching and malfunctioning, degrading brake performance, and potentially causing loss of control of the aircraft during landing or roll-out.

Relevant Service Information

We reviewed DORNIER LUFTFAHRT GmbH Dornier 228 Alert Service Bulletin (ASB) No. ASB-228-265, dated November 17, 2006. The service information describes procedures for a visual inspection of the landing gear to detect loose bolts and self-locking nuts at the carbon brake assembly.

The EASA classified this service bulletin as mandatory and issued EASA AD Number EAD 2006-0352-E, dated November 24, 2006, to ensure the continued airworthiness of these airplanes in Germany.

FAA's Determination and Requirements of This AD

These DORNIER LUFTFAHRT GmbH Model 228-212 airplanes are manufactured in Germany and are type-certificated for operation in the United States under the provisions of section 21.29 of the Federal Aviation Regulations (14 CFR 21.29) and the applicable bilateral airworthiness agreement.

Under this bilateral airworthiness agreement, the EASA has kept us informed of the situation described above. We are issuing this AD because we evaluated all the information and determined the unsafe condition described previously is likely to exist or develop on other products of the same type design. This AD requires an inspection of the landing gear carbon brake assembly to detect and replace loose bolts or self-locking nuts.

Cost Impact

None of the DORNIER LUFTFAHRT GmbH Model 228-212 airplanes affected by this action are currently on the U.S. Registry. All airplanes included in the applicability of this rule currently are operated by non-U.S. operators under foreign registry; therefore, they are not directly affected by this AD action at this time. However, the FAA considers this rule necessary to ensure that the unsafe condition is addressed in the event that any of these subject airplanes are imported and placed on the U.S. Registry.

Should an affected airplane be imported and placed on the U.S. Registry, accomplishment of the required action would take approximately 10 workhours at an average labor rate of $80 per workhour. Based on these figures, the total cost impact of this AD would be $800 per airplane.

Comments Invited

Because there are no affected airplanes on the U.S. Registry, it has no adverse economic impact and imposes no additional burden on any person. Therefore, prior notice and public procedures hereon are unnecessary. We invite you to send any written relevant data, views, or arguments regarding this AD. Send your comments to an address listed under the ADDRESSES section. Include the docket number “FAA-2006-26597; Directorate Identifier 2006-CE-86-AD” at the beginning of your comments. We specifically invite comments on the overall regulatory, economic, environmental, and energy aspects of the AD. We will consider all comments received by the closing date and may amend the AD in light of those comments.

We will post all comments we receive, without change, to http://dms.dot.gov, including any personal information you provide. We will also post a report summarizing each substantive verbal contact we receive concerning this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket.

Examining the AD Docket

You may examine the AD docket that contains the AD, the regulatory evaluation, any comments received, and other information on the Internet at http://dms.dot.gov; or in person at the Docket Management Facility between 9 a.m. and 5 p.m., Monday through Friday, except Federal holidays. The Docket Office (telephone (800) 647-5227) is located at the street address stated in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2007-02-13 DORNIER LUFTFAHRT: Amendment 39-14900; Docket No. FAA-2006-26597; Directorate Identifier 2006-CE-86-AD.

Effective Date

(a) This AD becomes effective on March 1, 2007.

Affected ADs

(b) None.

Applicability

(c) This AD applies to DORNIER LUFTFAHRT GmbH Model 228-212 airplanes, all serial numbers, if Carbon Brake Assemblies with Part Number (P/N) 5009850-1, 5009850-2, 5009850-3 or 5009850-4 are installed, that are certificated in any category.

Unsafe Condition

(d) This AD is the result of loose bolts and nuts being detected on the landing gear carbon brake assembly during a maintenance inspection. We are issuing this AD to require an inspection to detect loose bolts and self-locking nuts on the landing gear carbon brake assembly, which, if not corrected, could result in the brake assembly detaching and malfunctioning, degrading brake performance, and potentially causing loss of control of the aircraft during landing or roll-out.

Compliance

(e) To address this problem, you must do the following, unless already done, before the next flight after the effective date of this AD: Inspect the landing gear carbon brake assembly in accordance with the instructions contained in DORNIER LUFTFAHRT GmbH Dornier 228 Alert Service Bulletin ASB-228-265 dated November 17, 2006, and, if necessary, replace the affected brake assembly.

Alternative Methods of Compliance (AMOCs)

(f) The Manager, Standards Staff, FAA, ATTN: Karl Schletzbaum, Aerospace Engineer, Small Airplane Directorate, 901 Locust, Room 301, Kansas City, Missouri 64106; telephone: (816) 329-4146; fax: (816) 329-4090, has the authority to approve AMOCs for this AD, if requested using the procedures found in 14 CFR 39.19.

Related Information

(g) This AD is related to EASA EAD No. 2006-0352-E, dated November 24, 2006, which references Dornier Luftfahrt GmbH ASB-228-265, dated November 17, 2006.

Material Incorporated by Reference

(h) You must use DORNIER LUFTFAHRT GmbH Service Bulletin No. ASB-228-265, dated November 17, 2006, to do the actions required by this AD, unless the AD specifies otherwise.

(1) The Director of the Federal Register approved the incorporation by reference of this service information under 5 U.S.C. 552(a) and 1 CFR part 51.

(2) For service information identified in this AD, contact RVAG Aerospace Services GmbH, Dornier 228 Customer Support, P.O. Box 1253, D-82231 Wessling, Federal Republic of Germany.

(3) You may review copies at the FAA, Central Region, Office of the Regional Counsel, 901 Locust, Kansas City, Missouri 64106; or at the National Archives and Records Administration (NARA). For information on the availability of this material at NARA, call 202-741-6030, or go to: http://www.archives.gov/federal_register/code_of_federal_regulations/ibr_locations.html.

Issued in Kansas City, Missouri, on January 12, 2007.
Kim Smith,
Manager, Small Airplane Directorate, Aircraft Certification Service.

[FR Doc. E7-900 Filed 1-24-07; 8:45 am]

BILLING CODE 4910-13-P